DEPARTMENT OF COMMERCE

Foreign-Trade Zones Board

[Order No. 1277]

Expansion of Foreign-Trade Zone 84; Houston, TX

Pursuant to its authority under the Foreign-Trade Zones Act of June 18, 1934, as amended (19 U.S.C. 81a-81u), the Foreign-Trade Zones Board (the Board) adopts the following order:

Whereas, the Port of Houston Authority, grantee of Foreign-Trade Zone 84, submitted an application to the Board for authority to expand FTZ 84 to include the Katoen Natie Gulf Coast site (72 acres) on a permanent basis and to restore FTZ status to the Bulk Materials Handling plant (97 acres) on the Houston Ship Channel, within the Houston-Galveston Customs port of entry area (FTZ Docket 36-2002; filed 9/12/02);

Whereas, notice inviting public comment was given in the Federal Register (67 FR 59250, 9/20/02) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to expand FTZ 84 is approved, subject to the Act and the Board's regulations, including Section 400.28.

Signed at Washington, DC, this 14th day of May 2003.
Jeffrey A. May,
Acting Assistant Secretary of Commerce for Import Administration, Alternate Chairman, Foreign-Trade Zones Board.

[FR Doc. 03-12882 Filed 5-21-03; 8:45 am]

BILLING CODE 3510-DS-U